DEPARTMENT OF AGRICULTURE

Natural Resources Conservation Service

Stemple Creek Watershed Project, Marin and Sonoma Counties, CA

AGENCY: Natural Resources Conservation Service.

ACTION: Notice of a Finding of No Significant Impact.

SUMMARY: Pursuant to Section 102(2)(c) of the National Environmental Policy Act of 1969, the Council on Environmental Quality regulations (40 CFR Part 1500) and the Natural Resources Conservation Service regulations (7 CFR Part 650), the Natural Resources Conservation Service, U.S. Department of Agriculture, gives notice that an environmental impact statement is not being prepared for the Stemple Creek Watershed Project, Marin and Sonoma Counties, California.

FOR FURTHER INFORMATION CONTACT: Luana E. Kiger, Special Assistant to the State Conservationist, Natural Resources Conservation Service, 430 G Street, Davis, California, 95616-4164, telephone (530) 792-5661.

SUPPLEMENTARY INFORMATION: The environmental assessment of this federally assisted action indicates that the modifications to the project will not cause significant local, regional, or national impacts on the environment. As a result of these findings, Charles W. Bell, State Conservationist, has determined that the preparation and review of an environmental impact statement are not needed for this action.

The project purpose is watershed protection for water quality improvement. The planned project includes improved waste management systems on about 16 dairies, approximately 29 miles of riparian stream habitat restoration, and land treatment on about 11,000 acres of rangeland. The work will be installed through long-term contracts with individual land users. Participation by land users is voluntary.

The Finding of No Significant Impact has been forwarded to the Environmental Protection Agency and to various Federal, State, and local agencies and interested parties. Basic data developed during the environmental assessment is on file and its review may be arranged by contacting Luana E. Kiger, Special Assistant to the State Conservationist.

No administrative action on implementation of the proposal will be taken until 30 days after the date of this publication in the Federal Register.

(This activity is listed in the Catalog of Federal Domestic Assistance under No. 10.904, Watershed Protection and Flood Prevention, and is subject to the provisions of Executive Order 12372, which requires intergovernmental consultation with State and local officials)
Dated: September 13, 2004.
Charles W. Bell,
State Conservationist.

[FR Doc. 04-21421 Filed 9-23-04; 8:45 am]

BILLING CODE 3410-16-P